DEPARTMENT OF COMMERCE

International Trade Administration

[A-552-802]

Certain Frozen Warmwater Shrimp From the Socialist Republic of Vietnam: Final Results and Final Partial Rescission of Antidumping Duty Administrative Review

AGENCY: Import Administration, International Trade Administration, Department of Commerce.

SUMMARY: On March 9, 2009, the Department of Commerce (“the Department”) published in the Federal Register the preliminary results of the third administrative review of the antidumping duty order on certain frozen warmwater shrimp from the Socialist Republic of Vietnam (“Vietnam”). Certain Frozen Warmwater Shrimp from the Socialist Republic of Vietnam: Preliminary Results, Preliminary Partial Rescission and Request for Revocation, In Part, of the Third Administrative Review, 74 FR 10009 (March 9, 2009) (“Preliminary Results”). We gave interested parties an opportunity to comment on the Preliminary Results. Based upon our analysis of the comments and information received, we made changes to the margin calculations for the final results. We find that certain manufacturers/exporters have not sold subject merchandise at less than normal value (“NV”) during the period of review (“POR”) February 1, 2007, through January 31, 2008.

DATES: Effective Date: September 15, 2009.

FOR FURTHER INFORMATION CONTACT: Irene Gorelik, AD/CVD Operations, Office 9, Import Administration, International Trade Administration, U.S. Department of Commerce, 14th Street and Constitution Avenue, NW., Washington, DC 20230; telephone: (202) 482-6905.

SUPPLEMENTARY INFORMATION:

Background

On March 9, 2009, the Department published the Preliminary Results of this administrative review. See Preliminary Results. On March 12, 2009, we extended the deadline for parties to submit the case briefs and rebuttal briefs to April 10, 2009 and April 24, 2009, respectively. On March 12, 2009, Phuong Nam filed a request for a public hearing. On March 24, 2009, Fish One,¹ a separate rate respondent, filed a request for a public hearing. On March 27, 2009, Petitioner ² placed on the record additional surrogate value information. On March 30, 2009, the mandatory respondents,³ the Domestic Processors,⁴ and Contessa Premium Foods, Inc., (“Contessa”), a U.S. importer, submitted additional surrogate value information. On April 6, 2009, Minh Phu Group, Camimex, and certain separate rate respondents ⁵ (“SR Respondents”) filed a request for a public hearing. On April 8, 2009, the Domestic Processors filed a request for a hearing. On April 8, 2009, Contessa and Petitioner filed letters stating their intent to participate in a public hearing if one were to be held. On April 10, 2009, the mandatory respondents, Fish One, Petitioner, the Domestic Processors, C.P. Vietnam Livestock Co. (“CP Vietnam”), Kim Anh Co., Ltd. (“Kim Anh”), Contessa, and certain SR Respondents filed case briefs. On April 24, 2009, the mandatory respondents, Fish One, Petitioner, the Domestic Processors, and certain SR Respondents filed rebuttal briefs. On May 13, 2009, Minh Phu Group, Camimex and certain SR Respondents refiled the rebuttal brief to include missing pages inadvertently excluded from the April 24, 2009 rebuttal brief. On June 4, 2009, the Department held a public hearing pursuant to section 351.310(d)(1) of the Department's regulations. On June 22, 2009, the Department placed on the record of this review information reported by Minh Phu Group in the preceding administrative review. We invited comments from interested parties regarding this information. No interested parties provided comment regarding this information.

¹ Vietnam Fish-One Co., Ltd. (Vietnam Fish-One) aka Viet Hai Seafoods Company Ltd. (“Vietnam Fish One Co. Ltd.”) (collectively, “Fish One”).

² Petitioner is the Ad Hoc Shrimp Trade Action Committee.

³ The mandatory respondents are: Minh Phu Seafood Export Import Corporation (and affiliated Minh Qui Seafood Co., Ltd. and Minh Phat Seafood Co., Ltd.), Minh Phu Seafood Corporation; Minh Phu Seafood Corp., Minh Qui Seafood Co., Ltd., Minh Qui Seafood, Minh Phat Seafood Co., Ltd., Minh Phat Seafood, (collectively, “Minh Phu Group”), Camau Frozen Seafood Processing Import Export Corporation (“Camimex”), and Phuong Nam Co. Ltd. (“Phuong Nam”).

⁴ The Domestic Processors are the American Shrimp Processors Association (“ASPA”) and the Louisiana Shrimp Association (“LSA”), (collectively, the “Domestic Processors”).

⁵ Here, we refer to a SR Respondent as a company upon which we initiated a review, submitted either a separate rate certification or application, has been cooperative, but was not selected for individual review.

On June 4, 2009, the Department published a notice extending the deadline for the final results of the administrative review. See Certain Frozen Warmwater Shrimp from the People's Republic of China and the Socialist Republic of Vietnam: Notice of Extension of Time Limit for the Final Results of the Third Administrative Reviews, 74 FR 26839 (June 4, 2009). On July 22, 2009, the Department published a second notice extending the deadline for the final results of the administrative review. See Certain Frozen Warmwater Shrimp from the People's Republic of China and the Socialist Republic of Vietnam: Notice of Extension of Time Limit for the Final Results of the Third Administrative Reviews, 74 FR 36164 (July 22, 2009). Lastly, on August 31, 2009, the Department published a third notice extending the deadline for the final results of the administrative review. See Certain Frozen Warmwater Shrimp from the People's Republic of China and the Socialist Republic of Vietnam: Notice of Extension of Time Limit for the Final Results of the Third Administrative Reviews, 74 FR 44818 (August 31, 2009).

Analysis of Comments Received

All issues raised in the case and rebuttal briefs by parties to this review are addressed in Certain Frozen Warmwater Shrimp from the Socialist Republic of Vietnam: Issues and Decision Memorandum for the Final Results of the Third Administrative Review, dated September 8, 2009, which is hereby adopted by this notice (“Issues and Decision Memo”). A list of the issues which parties raised and to which we respond in the Issues and Decision Memo is attached to this notice as an Appendix. The Issues and Decision Memo is a public document and is on file in the Central Records Unit (“CRU”), Main Commerce Building, Room 1117, and is accessible on the Web at http://www.trade.gov/ia. The paper copy and electronic version of the memorandum are identical in content.

Final Rescission of Review

In the Preliminary Results, the Department issued a notice of intent to rescind this administrative review with respect to Vinh Hoan Corporation (formerly Vinh Hoan Co., Ltd.) (“Vinh Hoan”) and Quoc Viet Seaproducts Processing Trading Import and Export Co., Ltd., (“Quoc Viet”) because the information on the record indicated that they did not sell subject merchandise to the United States during the POR. Subsequent to the Preliminary Results, no information was submitted on the record indicating that Vinh Hoan and Quoc Viet made sales of subject merchandise to the United States during the POR. Thus, in accordance with 19 CFR 351.213(d)(3) and consistent with our practice, we are rescinding this review with respect to Vinh Hoan and Quoc Viet.

However, with respect to Kim Anh and CP Vietnam, we did not preliminarily rescind the administrative review pending an analysis of additional information requested from the companies and U.S. Customs and Border Protection (“CBP”). Additionally, we preliminarily assigned the two companies the Vietnam-wide entity rate because Kim Anh and CP Vietnam had not provided any information on the record to indicate their eligibility for a rate separate from the Vietnam-wide entity. See Preliminary Results at 10011.

Subsequent to the Preliminary Results, the Department placed on the record import entry documentation obtained from CBP. See Memorandum to the File from Irene Gorelik, Analyst, Office 9, Re; Third Administrative Review of Certain Frozen Warmwater Shrimp from the Socialist Republic of Vietnam: CBP 7501 Entry Packages, dated March 4, 2009. The Department also invited comment from CP Vietnam and Kim Anh regarding the information contained within the CBP entry documentation. Based on the Department's review of CBP's entry documentation and the companies' subsequent explanations and supporting documentation on the record, we have determined that it is appropriate to rescind the review with respect to CP Vietnam and Kim Anh in the final results. For further details, see Issues and Decision Memo at Comments 18 and 19, respectively. Thus, in accordance with 19 CFR 351.213(d)(3) and consistent with our practice, we are rescinding this review with respect to CP Vietnam and Kim Anh.

Changes Since the Preliminary Results

Based on our analysis of information on the record of this review, and comments received from the interested parties, we have made changes to the margin calculations for the mandatory respondents.

We have revised the surrogate values for raw shrimp, master cartons, and domestic cold storage warehousing. Additionally, we have revised classifications for certain expenses in the surrogate financial ratios used in the Preliminary Results. For further details see Issues and Decision Memo at Comments 6B, 7B, 7F, 9 and 10, respectively; see also Memorandum to the File through Catherine Bertrand, Program Manager, Office 9 from Irene Gorelik, Senior Analyst, Office 9; Third Antidumping Duty Administrative Reviews of Certain Frozen Warmwater Shrimp from the Socialist Republic of Vietnam: Surrogate Values for the Final Results, dated September 8, 2009. Additionally, we have made company-specific changes since the Preliminary Results to the antidumping duty margin calculations for all three mandatory respondents. For further details on these company-specific changes, see Issues and Decision Memo at Comments 12, 13, 14 and 15, and company specific analysis memoranda.

Scope of the Order

The scope of this order includes certain frozen warmwater shrimp and prawns, whether wild-caught (ocean harvested) or farm-raised (produced by aquaculture), head-on or head-off, shell-on or peeled, tail-on or tail-off,⁶ deveined or not deveined, cooked or raw, or otherwise processed in frozen form.

⁶ “Tails” in this context means the tail fan, which includes the telson and the uropods.

The frozen warmwater shrimp and prawn products included in the scope of this order, regardless of definitions in the Harmonized Tariff Schedule of the United States (“HTSUS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Surrogate Country

In the Preliminary Results, we determined that, pursuant to section 773(c)(4) of the Tariff Act of 1930, as amended (“Act”), Bangladesh is an appropriate surrogate country because it is at a similar level of economic development to Vietnam, is a significant producer of comparable merchandise, and has reliable, publicly available data representing a broad-market average for surrogate valuation purposes. See Preliminary Results at 10015. Subsequently, we analyzed comments from interested parties regarding our preliminary surrogate country selection and have determined that, for the final results, we will continue to use Bangladesh as the primary surrogate country. Specifically, first, we noted that the Office of Policy provided a list of potential surrogate countries and considered them “equally comparable in terms of economic development.” See, e.g., Preliminary Results at 10014. Second, in relying on the most recently available 2005 data from the FishStat Database (“FishStat”) of the Food and Agricultural Organization (“FAO”) of the United Nations, we determined that Indonesia, India and Bangladesh were significant producers of comparable merchandise whereas Sri Lanka and Pakistan were not significant producers of comparable merchandise.⁷ Thus, we no longer consider Sri Lanka and Pakistan to be appropriate surrogate country choices. Consequently, the remaining potential surrogate countries subject to further consideration were Indonesia, India, and Bangladesh. Finally, we considered the available data from Indonesia, India, and Bangladesh with which to value raw shrimp, the main input for subject merchandise production. The Department's selection of Bangladesh as the primary surrogate country is based on our determination that the available data that would fulfill a wider range of our established surrogate value selection criteria, such as the availability of publicly-available count-size specific data representing a broad-market average. The record shows that, compared with the Bangladeshi data, neither the Indian data not the Indonesian data satisfied the breadth of surrogate value criteria for raw shrimp. Therefore, based on the evidence on the record, we determine that Bangladesh continues to be the most appropriate surrogate country in this review. As Petitioner and Domestic Processors have not provided compelling evidence to the contrary, we will continue to use Bangladesh as the primary surrogate country for the final results of this administrative review. For a detailed analysis of our determination, see Issues and Decisions Memo at Comment 2.

⁷ In determining that Bangladesh was a significant producer of comparable merchandise, we looked to information on the record that supports Bangladesh's fulfillment of this criterion. See Issues and Decision Memo at Comment 2.

Request for Revocation, In Part

In the Preliminary Results, we determined not to revoke the antidumping duty order with respect to Fish One. See Preliminary Results at 10011. We have not, for the final results, changed our determination. For further discussion, see Issues and Decision Memo at Comment 16.

Use of Facts Available

Section 776(a)(2) of the Act provides that, if an interested party: (A) withholds information that has been requested by the Department; (B) fails to provide such information in a timely manner or in the form or manner requested, subject to sections 782(c)(1) and (e) of the Act; (C) significantly impedes a proceeding under the antidumping statute; or (D) provides such information but the information cannot be verified; the Department shall, subject to subsection 782(d) of the Act, use facts otherwise available in reaching the applicable determination.

Section 782(c)(1) of the Act provides that if an interested party “promptly after receiving a request from {the Department} for information, notifies {the Department} that such party is unable to submit the information requested in the requested form and manner, together with a full explanation and suggested alternative form in which such party is able to submit the information,” the Department may modify the requirements to avoid imposing an unreasonable burden on that party.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e), disregard all or part of the original and subsequent responses, as appropriate.

Section 782(e) of the Act states that the Department shall not decline to consider information deemed “deficient” under section 782(d) if: (1) The information is submitted by the established deadline; (2) the information can be verified; (3) the information is not so incomplete that it cannot serve as a reliable basis for reaching the applicable determination; (4) the interested party has demonstrated that it acted to the best of its ability; and (5) the information can be used without undue difficulties.

Furthermore, section 776(b) of the Act states that if the Department “finds that an interested party has failed to cooperate by not acting to the best of its ability to comply with a request for information from the administering authority * * *, the administering authority * * *, in reaching the applicable determination under this title, may use an inference that is adverse to the interests of that party in selecting from among the facts otherwise available.”

Minh Phu Group

For the final results, in accordance with sections 773(c)(3)(B) and 776(a)(1) of the Act, we have determined that the use of facts available (“FA”) is required for Minh Phu Group's domestic cold storage warehousing expense for reported sales. As stated in the Preliminary Results, in accordance with section 772(c)(2)(A) of the Act, we must deduct movement expenses from the U.S. price. See Preliminary Results at 10015. Because domestic cold storage expenses are considered part of movement expenses within the margin calculation, an accurate calculation of the average warehousing period is required. To properly calculate cold storage warehousing as part of movement expenses, we need to apply the cold storage surrogate value to a quantifiable period of time for the reported sales. However, during the course of the review, the Department did not request that Minh Phu Group report the number of days that subject merchandise was held in unaffiliated cold storage warehousing prior to exportation. Accordingly, because the record does not contain the average period of time that subject merchandise was held in cold storage warehousing during the POR, the Department must use FA in accordance with section 776(a)(1) of the Act.⁸

⁸ See Steel Wire Garment Hangers from the People's Republic of China: Final Determination of Sales at Less Than Fair Value, 73 FR 47587 (August 14, 2008) and accompanying Issues and Decision Memorandum at Comment 2 (where we applied facts available to a material input that the Department had not requested the respondent report during the proceeding).

In determining the most appropriate and reliable information to use as FA, the Department reviewed Petitioner's suggested proxy provided in its case brief dated April 10, 2009, which is calculated from information contained within a set of shipping documents for one EP sale during the POR. Additionally, on June 22, 2009, the Department placed on the record cold storage warehousing data reported by Minh Phu Group in the second administrative review, for the period February 1, 2006, through January 31, 2007. See Memorandum to the File from Irene Gorelik, Analyst, re; Domestic Warehousing Data for Minh Phu Group, dated June 22, 2009 at Attachment I. The Department stated its intent to use that information for the final results of this review and invited interested parties to comment on this data. No interested parties submitted comments regarding the data.

As FA, for the final results of this review, we are relying on Minh Phu Group's reported cold storage warehousing data from the preceding administrative review, which we have placed on the record of this review, for the average number of days that subject merchandise was held in storage prior to exportation. See id. We find that the average number of days that Minh Phu Group reported in the preceding review is more accurate than Petitioner's suggested proxy, as it was calculated using a wider range of data points from the company's records, rather than an inferred period of time gathered from one set of shipping documents. For further details regarding the Department's calculation of domestic warehousing, see Issues and Decision Memo at Comment 12 and Memorandum to the File through Catherine Bertrand, Program Manager, Office 9, from Irene Gorelik, Senior Analyst, Office 9; Administrative Review of Certain Frozen Warmwater Shrimp from the Socialist Republic of Vietnam: Analysis for the Final Results of Minh Phu Group dated September 8, 2009.

Separate Rates

In the Preliminary Results, we determined that the mandatory respondents, Camimex, Minh Phu Group and Phuong Nam, as well as certain SR Respondents,⁹ met the criteria for separate-rate status. We have not received any information since the issuance of the Preliminary Results that provides a basis for reconsideration of these determinations. Therefore, the Department continues to find that these entities meet the criteria for a separate rate.

⁹ These other separate rate companies are: Amanda Foods (Vietnam) Ltd., Bac Lieu Fisheries Company Limited (“Bac Lieu”), Ca Mau Seafood Joint Stock Company (“SEAPRIMEXCO”), Cadovimex Seafood Import-Export and Processing Joint Stock Company (“CADOVIMEX”), Cantho Animal Fisheries Product Processing Export Enterprise (Cafatex), Cam Ranh Seafoods Processing Enterprise Company (“Camranh Seafoods”), Can Tho Agricultural and Animal Product Import Export Company (“CATACO”), Coastal Fisheries Development Corporation (“COFIDEC”), Cuulong Seaproducts Company (“Cuulong Seapro”), Danang Seaproducts Import Export Corporation (“Seaprodex Danang”) and affiliate Tho Quang Seafood Processing & Export Company, Grobest & I-Mei Industrial (Vietnam) Co., Ltd., Investment Commerce Fisheries Corporation (“Incomfish”), Minh Hai Export Frozen Seafood Processing Joint-Stock Company (“Minh Hai Jostoco”), Minh Hai Joint-Stock Seafoods Processing Company (“Seaprodex Minh Hai”), Ngoc Sinh Private Enterprise, Nha Trang Fisheries Joint Stock Company (“Nha Trang Fisco”), Nha Trang Seaproduct Company (“Nha Trang Seafoods”), Phu Cuong Seafood Processing & Import-Export Co., Ltd., Sao Ta Foods Joint Stock Company (“FIMEX”), Soc Trang Aquatic Products and General Import Export Company (“Stapimex”), Thuan Phuoc Seafoods and Trading Corporation (and its affiliates), UTXI Aquatic Products Processing Company (“UTXI”), Viet Foods Co., Ltd., Viet Hai Seafood Co., Ltd. a/k/a Vietnam Fish One Co., Ltd. (Fish One), Vinh Loi Import Export Company (“VIMEX”).

However, in the Preliminary Results, we also noted that certain entities requesting separate rate status for new trade names or additional trade names that had not been previously granted separate rate status required further analysis. Specifically, we stated that “separate-rate certifications filed by seven exporters showed that these seven companies claimed to have undergone changes in name, legal and/or corporate structure during the POR.” See Preliminary Results at 10012. We further stated that “a separate-rate certification is not the proper vehicle by which a company that has undergone name or other corporate changes should request a separate rate.” See id. Accordingly, we notified Cadovimex, CATACO, Stapimex, UTXI, Bac Lieu, Minh Hai Jostoco, and Thuan Phuoc that a changed circumstance review would be required for the Department to analyze any claims of successor-in-interest by these companies. However, the Department preliminarily granted separate rate status to these seven companies prior to any name or other corporate change. See id.

Since the Preliminary Results, the Department has conducted changed circumstance reviews for six of the above-mentioned seven entities.¹⁰ The Department published its preliminary results of changed circumstance reviews, finding that, in accordance with 19 CFR 351.221(c)(3)(i), Cadovimex is succeeded by Cadovimex Seafood Import-Export and Processing Joint Stock Company (“Cadovimex Vietnam”), Stapimex is succeeded by Soc Trang Seafood Joint Stock Company (“STAPIMEX JSC”), Bac Lieu is succeeded by Bac Lieu Fisheries Joint Stock Company (“Bac Lieu JSC”), Thuan Phuoc is succeeded by Thuan Phuoc Seafoods and Trading Corporation (“Thuan Phuoc JSC”), and UTXI is succeeded by UTXI Aquatic Products Processing Corporation (“UTXI Corp.”) See Frozen Warmwater Shrimp From Vietnam: Notice of Preliminary Results of Antidumping Duty Changed Circumstances Reviews, 74 FR 31698 (July 2, 2009). However, in accordance with 19 CFR 351.221(c)(3)(i), the Department also preliminarily determined that CAFISH is not the successor-in-interest to CATACO. See id. The Department subsequently published the final results of changed circumstance reviews for the above six entities, with no changes to its preliminary determinations. See Frozen Warmwater Shrimp From Vietnam: Notice of Final Results of Antidumping Duty Changed Circumstances Reviews, 74 FR 42050 (August 20, 2009) (“CCR Final”).

¹⁰ Minh Hai Jostoco never filed a changed circumstance review request.

Following the Department's determinations in the CCR Final, the Department has listed, in the “Final Results of the Review” section below, the names of the successor companies and their respective qualifying trade names that are assuming the separate rate of the former entity effective from August 20, 2009. See CCR Final. For those entities, including CATACO, for which we did not find a successorship exists, the separate rate in this review will be granted only to the former entity in addition to its qualifying trade names, as noted below. For a detailed discussion of the trade names not granted separate-rate status, see Issues and Decision Memo at Comment 17.

Rate for Non-Selected Companies

In the Preliminary Results, we stated that the Department employed a limited examination methodology, as it did not have the resources to examine all companies for which a review request was made and selected three exporters, Minh Phu Group, Camimex, and Phuong Nam as mandatory respondents in this review. See Preliminary Results at 10010. Additionally, 25 additional companies (listed in footnote 10 above) submitted timely information as requested by the Department and remained subject to review as cooperative separate rate respondents. The Department assigned a preliminary rate to the remaining 25 cooperative separate rate respondents not selected for individual examination.

In the Preliminary Results, we noted that the statute and the Department's regulations do not directly address the establishment of a rate to be applied to companies not selected for individual examination where the Department limited its examination in an administrative review pursuant to section 777A(c)(2) of the Act. See Preliminary Results. We further explained that the Department's practice in this regard, in cases involving limited selection based on exporters accounting for the largest volumes of trade, has been to weight-average the rates for the selected companies excluding zero and de minimis rates and rates based entirely on FA. See Preliminary Results at 10014. However, due to changes in certain surrogate values and the correction of certain clerical errors for Minh Phu Group, Camimex, and Phuong Nam from the Preliminary Results, the Department has, for the final results, calculated all de minimis dumping margins for the mandatory respondents.

Because the Act does not address that rate to be applied to companies not selected for individual examination, we have looked to section 735(c)(5) of the Act for guidance. Section 735(c)(5)(A) of the Act instructs that we are not to calculate an all-others rate using any zero or de minimis margins or any margins based entirely on FA. Section 735(c)(5)(B) of the Act also provides that, where all margins are zero rates, de minimis rates, or rates based entirely on FA, we may use “any reasonable method” for assigning the rate to non-selected respondents. We note that in the preceding administrative review, the Department looked to other reasonable means to assign separate-rate margins to non-reviewed companies because we calculated zero rates, de minimis rates, or rates based entirely on FA for the mandatory respondents. See Certain Frozen Warmwater Shrimp From the Socialist Republic of Vietnam: Final Results and Final Partial Rescission of Antidumping Duty Administrative Review, 73 FR 52273 (September 9, 2008) and accompanying Issues and Decision Memorandum at Comment 6 (“Vietnam Shrimp AR2 Final”). Because the Department is faced with similar circumstances in these final results as in the preceding administrative review, we must, again, look to other reasonable means to assign separate rate margins to non-reviewed companies eligible for a separate rate in this review. We find that a reasonable method is to assign to non-reviewed companies in this review the most recent rate calculated for the non-selected companies in question, unless we calculated in a more recent segment a rate for any company that was not zero, de minimis, or based entirely on FA. Pursuant to this method, we are assigning the rate of 4.57 percent, the most recent positive rate (from the less-than-fair-value (“LTFV”) investigation) calculated for cooperative separate rate respondents, to those separate rate respondents in the instant review with no calculated margin that is concurrent with or more recent than this rate. For those separate rate respondents that received a calculated rate in a prior segment, concurrent with or more recent than the 4.57 percent rate, we are assigning that calculated rate as the company's separate rate in this review. Specifically, for Fish-One and Grobest, we are assigning the rates most recently calculated for both companies (zero) as their separate rate in the instant review because these rates are more recent than the separate rate calculated in the LTFV and are based on the companies' own data. Additionally, for Minh Hai Joint-Stock Seafoods Processing Company (“Seaprodex Minh Hai”), we are also assigning, as a separate rate, the most recent calculated rate of 4.30 percent, from the LTFV, which was based on the company's own data. For all other separate rate respondents in the instant review, the separate rate is 4.57 percent. For additional details, see Issues and Decision Memo at Comment 16. This is the same methodology we applied in the final results of the prior review. See Vietnam Shrimp AR2 Final.

Vietnam-Wide Entity

In the Preliminary Results, the Department determined that 78 companies which did not demonstrate eligibility for a separate rate are properly considered part of the Vietnam-Wide entity.¹¹ Since the Preliminary Results, no parties commented or provided evidence contrary to our preliminary determination with respect to these 78 companies. Therefore, for the final results, we will continue to assign the entity's current rate of 25.76 percent, the only rate ever determined for the Vietnam-wide entity in this proceeding. Because we are rescinding this review with respect to CP Vietnam and Kim Anh as noted above, and we no longer find these companies to be part of the Vietnam-wide entity as we did in the Preliminary Results, any suspended entries for CP Vietnam and Kim Anh will be liquidated at the rate in effect on the date of entry.

¹¹ See Preliminary Results at 10011; see also footnote 19 below.

Final Results of the Review

The Department has determined that the following final dumping margins exist for the period February 1, 2007, through January 31, 2008:

Certain Frozen Warmwater Shrimp From Vietnam
Manufacturer/Exporter | Weighted-average margin (percent)
Minh Phu Group:
Minh Phat Seafood Co., Ltd., aka Minh Phat Seafood aka Minh Phu Seafood Export Import Corporation (and affiliates Minh Qui Seafood Co., Ltd. and Minh Phat Seafood Co., Ltd.) aka Minh Phu Seafood Corp. aka Minh Phu Seafood Corporation aka Minh Qui Seafood aka Minh Qui Seafood Co., Ltd | 0.43 (de minimis)
Camau Frozen Seafood Processing Import Export Corporation (“CAMIMEX”), aka Camimex, aka Camau Seafood Factory No. 4, aka Camau Seafood Factory No. 5 | 0.08 (de minimis)
Phuong Nam Co. Ltd., aka Phuong Nam Seafood Co. Ltd. aka Western Seafood | 0.21 (de minimis)
Amanda Foods (Vietnam) Ltd | 4.57
Bac Lieu Fisheries Joint Stock Company ¹² | 4.57
Cadovimex-Vietnam, aka Cadovimex Seafood Import-Export and Processing Joint Stock Company (“Cadovimex-Vietnam”).¹³ | 4.57
Cafatex Fishery Joint Stock Corporation (“Cafatex Corp.”) aka Cantho Animal Fisheries Product Processing Export Enterprise (Cafatex), aka Cafatex, aka Cafatex Vietnam, aka Xi Nghiep Che Bien Thuy Suc San Xuat Khau Can Tho, aka Cas, aka Cas Branch, aka Cafatex Saigon, aka Cafatex Fishery Joint Stock Corporation, aka Cafatex Corporation, aka Taydo Seafood Enterprise | 4.57
Cam Ranh Seafoods Processing Enterprise Company (“Camranh Seafoods”) aka Camranh Seafoods | 4.57%
Can Tho Agricultural and Animal Products Import Export Company (“CATACO”) aka Can Tho Agricultural Products aka CATACO, aka Can Tho Agricultural and Animal Products Imex Company.¹⁴ | 4.57
Coastal Fishery Development aka Coastal Fisheries Development Corporation (Cofidec) aka Coastal Fisheries Development Corporation (Cofidec) | 4.57
Cuulong Seaproducts Company (“Cuu Long Seapro”) aka Cuu Long Seaproducts Limited (Cuulong Seapro) aka Cuulong Seapro, aka Cuulong Seaproducts Company (“Cuulong Seapro”) (“Cuu Long Seapro”) | 4.57
Danang Seaproducts Import Export Corporation (“Seaprodex Danang”) aka Tho Quang Seafood Processing & Export Company, aka Seaprodex Danang, aka Tho Quang Seafood Processing And Export Company, aka Tho Quang, aka Tho Quang Co | 4.57
Thuan Phuoc Seafoods and Trading Corporation (“Thuan Phuoc JSC”).¹⁵ | 4.57
Grobest & I-Mei Industrial (Vietnam) Co., Ltd., aka Grobest & I-Mei Industry Vietnam, aka Grobest | 0.00 (zero)
Investment Commerce Fisheries Corporation (“Incomfish”) | 4.57
Minh Hai Export Frozen Seafood Processing Joint Stock Company, aka Minh Hai Jostoco, aka Minh Hai Export Frozen Seafood Processing Joint-Stock Company (“Minh Hai Jostoco”), aka Minh Hai Export Frozen Seafood Processing Joint-Stock Company, aka Minh Hai Joint Stock Seafood Processing Joint-Stock Company, aka Minh Hai Export Frozen Seafood Processing Joint-Stock Co., aka Minh Hai Export Frozen Seafood Processing Joint-Stock Company Minh Hai Jostoco.¹⁶ | 4.57
Minh Hai Joint-Stock Seafoods Processing Company (“Seaprodex Minh Hai”) aka Sea Minh Hai, aka Minh Hai Joint-Stock Seafoods Processing Company | 4.30
Minh Hai Sea Products Import Export Company (Seaprimex Co), aka Ca Mau Seafood Joint Stock Company (“SEAPRIMEXCO”) aka Seaprimexco Vietnam, aka Seaprimexco, aka Ca Mau Seafood Joint Stock Company (Seaprimexco) | 4.57
Ngoc Sinh Private Enterprise, aka Ngoc Sinh Seafoods, aka Ngoc Sinh Seafoods Processing and Trading Enterprise | 4.57
Nha Trang Fisheries Joint Stock Company (“Nha Trang Fisco”) | 4.57
Nha Trang Seaproduct Company (`Nha Trang Seafoods”) | 4.57
Phu Cuong Seafood Processing and Import-Export Co., Ltd | 4.57
Sao Ta Foods Joint Stock Company (“Fimex VN”), aka Sao Ta Seafood Factory | 4.57
Soc Trang Seafood Joint Stock Company ¹⁷ | 4.57
UTXI Aquatic Products Processing Corporation ¹⁸ | 4.57
Viet Foods Co., Ltd. (“Viet Foods”) | 4.57
Viet Hai Seafood Co., Ltd. aka Vietnam Fish One Co., Ltd. (Fish One) | 0.00 (zero)
Vinh Loi Import Export Company (“Vimexco”), aka Vinh Loi Import Export Company (“VIMEX”), aka VIMEXCO, aka VIMEX | 4.57
Vietnam-Wide Rate ¹⁹ | 25.76

The Department will disclose calculations performed for these final results to the parties within five days of the date of publication of this notice in accordance with 19 CFR 351.224(b).

¹² See CCR Final; see also Issues and Decision Memo at Comment 17.

¹³ See CCR Final; see also Issues and Decision Memo at Comment 17.

¹⁴ Because we have determined that Cantho Import-Export Seafood Joint Stock Company, also known as Caseamex is not a successor-in-interest to Cataco, we have not extended Cataco's separate rate status to Caseamex or to Can Tho Import Export Fishery Limited Company (“CAFISH”). See CCR Final; see also Issues and Decision Memo at Comment 17.

Assessment Rates

Upon issuance of the final results, the Department will determine, and CBP shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. We will instruct CBP to assess antidumping duties on all appropriate entries covered by this review if any importer-specific assessment rate calculated in the final results of this review is above de minimis.

¹⁵ See CCR Final; see also Issues and Decision Memo at Comment 17.

¹⁶ For the same reasons discussed in Preliminary Results, we have not extended Minh Hai Jostoco's separate-rate status to: Kien Cuong Seafood Processing Import Export Joint-Stock Company (“Kien Cuong”) and Viet Cuong Seafood Processing Import Export Joint-Stock Company (“Viet Cuong”). See Preliminary Results at footnote 24.

¹⁷ See CCR Final; see also Issues and Decision Memo at Comment 17.

¹⁸ See CCR Final; see also Issues and Decision Memo at Comment 17.

¹⁹ The Vietnam-wide entity includes: AAAS Logistics; Agrimex; Amerasian Shipping Logistics Corp.; American Container Line; An Giang Fisheries Import and Export Joint Stock Company (Agifish); An Xuyen; Angiang Agricultural; Technology Service Company; Aquatic Products Trading Company; Bentre Aquaproduct Imports & Exports; Bentre Forestry and Aquaproduct Import-Export Company (“FAQUIMEX”); Bentre Frozen Aquaproduct Exports; Bentre Seafood Joint Stock; Beseaco, Binh Dinh Fishery Joint Stock; Cantho Import-Export Seafood Joint Stock Company (“Caseamex”); Can Tho Import Export Fishery Limited Company (“CAFISH”); Ca Mau Seaproducts Exploitation and Service Corporation (“SES”); Camau Seafood Fty; Can Tho Seafood Exports; Cautre Enterprises; Chun Cheng Da Nang Co., Ltd.; Co Hieu; Cong Ty Do Hop Viet Cuong; Dao Van Manh; Dong Phuc Huynh; Dragon Waves Frozen Food Fty.; Duyen Hai Bac Lieu Company (“T.K. Co.”); Duyen Hai Foodstuffs Processing Factory (“COSEAFEX”); General Imports & Exports; Hacota; Hai Ha Private Enterprise; Hai Thuan Export Seaproduct Processing Co., Ltd. ; Hai Viet; Hai Viet Corporation (“HAVICO”); Hanoi Seaproducts Import Export Corporation (“Seaprodex Hanoi”); Seaprodex Hanoi; Hatrang Frozen Seaproduct Fty; Hoa Nam Marine Agricultural; Hoan An Fishery; Hoan Vu Marine Product Co., Ltd.; Hua Heong Food Ind Vietnam; Khanh Loi Trading; Kien Gang Sea Products Import—Export Company (Kisimex); Kien Gang Seaproduct Import and Export Company (“KISIMEX”); Konoike Vinatrans Logistics; Lamson Import-Export Foodstuffs Corporation; Long An Food Processing Export Joint Stock Company (“LAFOOCO”); Lucky Shing; Nam Hai; Nha Trang Company Limited; Nha Trang Fisheries Co. Ltd.; Pataya Food Industry (Vietnam) Ltd.; Phat Loc Seafood; Phung Hung Private Business; Saigon Orchide; Sea Product; Sea Products Imports & Exports; Seafood Company Zone II (“Thusaco2”); Seafood Processing Joint Stock Company No.9 (previously Seafood Processing Imports Exports); Seafoods and Foodstuff Factory; Seaprodex; Seaprodex Quang Tri; Sonacos; Song Huong ASC Import-Export Company Ltd.; Song Huong ASC Joint Stock Company; Special Aquatic Products Joint Stock Company (“Seaspimex”); SSC; T & T Co., Ltd.; Tacvan Frozen Seafoods Processing Export Company; Thami Shipping & Airfreight; Thang Long; Thanh Long; Thanh Doan Seaproducts Import; Thien Ma Seafood; Tourism Material and Equipment Company (Matourimex Hochiminh City Branch); Truc An Company; Trung Duc Fisheries Private Enterprise; V N Seafoods; Vien Thang Private Enterprise; Viet Nhan Company; Vietfracht Can Tho; Vietnam Northern Viking Technologie Co.; Vietnam Northern Viking Technology Co. Ltd.; Vietnam Tomec Co., Ltd.; Vilfood Co.; and Vita.

Cash Deposit Requirements

The following cash deposit requirements will be effective upon publication of these final results of this administrative review for all shipments of the subject merchandise entered, or withdrawn from warehouse, for consumption on or after the publication date, as provided for by section 751(a)(2)(C) of the Act: (1) For the exporters listed above, the cash deposit rate will be established in these final results of review (except, if the rate is zero or de minimis, i.e., less than 0.5 percent, a zero cash deposit rate will be required for that company); (2) for previously investigated or reviewed Vietnamese and non-Vietnamese exporters not listed above that have separate rates, the cash deposit rate will continue to be the exporter-specific rate published for the most recent period; (3) for all Vietnamese exporters of subject merchandise which have not been found to be entitled to a separate rate, the cash deposit rate will be the Vietnamese-wide rate of 25.76 percent; and (4) for all non-Vietnamese exporters of subject merchandise which have not received their own rate, the cash deposit rate will be the rate applicable to the Vietnamese exporters that supplied that non-Vietnamese exporter. These deposit requirements, when imposed, shall remain in effect until further notice.

Notification of Interested Parties

This notice serves as a final reminder to importers of their responsibility under 19 CFR 351.402(f)(2) to file a certificate regarding the reimbursement of antidumping duties prior to liquidation of the relevant entries during the review period. Pursuant to 19 CFR 351.402(f)(3), failure to comply with this requirement could result in the Department's presumption that reimbursement of antidumping duties occurred and the subsequent assessment of doubled antidumping duties.

This notice also serves as a reminder to parties subject to administrative protective order (“APO”) of their responsibility concerning the disposition of proprietary information disclosed under APO as explained in the administrative protective order itself. Timely written notification of the return/destruction of APO materials or conversion to judicial protective order is hereby requested. Failure to comply with the regulations and the terms of an APO is a sanctionable violation.

This notice of final results of this administrative review is issued and published in accordance with sections 751(a)(1) and 777(i) of the Act, 19 CFR 351.213, and 19 CFR 351.221(b)(4).

Dated: September 8, 2009.
Ronald K. Lorentzen,
Acting Assistant Secretary for Import Administration.

Appendix I

General Issues

Comment 1: Respondent Selection Methodology

Comment 2: Surrogate Country

Comment 3: Treatment of Sales with Negative Margins

Surrogate Values

Comment 4: Wage Rate Calculation

Comment 5: Bangladeshi Inflator Data

Comment 6: Raw Shrimp

A. Surrogate Value Source

B. Period of NACA Data Used

C. Count Size Classifications

Comment 7: Other Surrogate Values

A. By-Products

B. Master Cartons

C. Inner Boxes

D. Plastic Trays/Rings

E. Sticker/Label

F. Cold Storage

Surrogate Financial Ratios

Comment 8: Use of Gemini Foods Inc.

Comment 9: Treatment of Depreciation Expenses

Comment 10: Treatment of Labor Expenses

Company-Specific Issues

Comment 11: Application of Adverse Facts Available to Minh Phu Group's U.S. Warehousing Expenses

Comment 12: Application of Facts Available to Minh Phu Group's Domestic Warehousing Expenses

Comment 13: Clerical Errors Alleged for Minh Phu Group

A. Treatment of Minh Phu Group's Sample Sales

B. Treatment of Minh Phu Group's Returned Merchandise

C. Minh Phu Group's Import-Specific Assessment

Comment 14: Clerical Errors Alleged for Camimex

Comment 15: Clerical Errors Alleged for Phuong Nam

Comment 16: Treatment of Fish One Revocation Request

Comment 17: Separate-Rate Status of Certain SR Respondents

Comment 18: Treatment of C.P. Vietnam Livestock Co., Ltd.

Comment 19: Treatment of Kim Anh Co., Ltd.

[FR Doc. E9-22188 Filed 9-14-09; 8:45 am]

BILLING CODE 3510-DS-P